DEPARTMENT OF TRANSPORTATION

Federal Aviation Administration

14 CFR Part 71

[Docket No. FAA-2021-0169; Airspace Docket No. 21-ASO-3]

RIN 2120-AA66

Amendment Class D and Class E Airspace; South Florida; Correction

AGENCY: Federal Aviation Administration (FAA), DOT.

ACTION: Final rule; correction.

SUMMARY: The Federal Aviation Administration (FAA) is correcting a final rule that appeared in the Federal Register on September 8, 2021, amending airspace for several airports in the south Florida area. This action corrects the dividing line between Pompano Beach Airpark and Fort Lauderdale Executive Airport, by updating the geographic coordinates that define the line. Controlled airspace is necessary for the safety and management of instrument flight rules (IFR) operations in the area.

DATES: Effective 0901 UTC, November 3, 2022. The Director of the Federal Register approves this incorporation by reference action under 1 CFR part 51, subject to the annual revision of FAA Order JO 7400.11 and publication of conforming amendments.

FOR FURTHER INFORMATION CONTACT: John Fornito, Operations Support Group, Eastern Service Center, Federal Aviation Administration, 1701 Columbia Avenue, College Park, GA 30337; Telephone (404) 305-6364.

SUPPLEMENTARY INFORMATION:

History

The FAA published a final rule in the Federal Register for Docket No. FAA 2021-0169 (86 FR 50245, September 8, 2021), amending Class D and Class E airspace for eight airports in the south Florida area. Subsequent to publication, the FAA found that the dividing line between Pompano Beach Airpark and Fort Lauderdale Executive Airport had moved due to the geographic coordinates of these airports being updated. This action corrects this error by amending the dividing line to mirror the previous line. Also, the effective date to amend Class D and Class E airspace for North Perry Airport, Miami-Opa Locka Executive Airport, Fort Lauderdale Executive Airport, Pompano Beach Airpark, and Boca Raton Airport was updated three times so as to coincide with the Class B and Class C actions, which were also delayed.

Good Cause for No Notice and Comment

Section 553(b) (3) (B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the fact that there is no substantive change to the rule.

Availability and Summary of Documents for Incorporation by Reference

This document amends FAA Order JO 7400.11G, Airspace Designations and Reporting Points, dated August 19, 2022, and became effective September 15, 2022. FAA Order JO 7400.11G is publicly available as listed in the ADDRESSES section of this document. FAA Order JO 7400.11G lists Class A, B, C, D, and E airspace areas, air traffic routes, and reporting points.

Correction to Final Rule

This action amends Title 14 Code of Federal Regulations (14 CFR) part 71 by correcting the dividing line between Pompano Beach Airpark and Fort Lauderdale Executive Airport in the final rule of Amendment Class D and Class E Airspace; South Florida.

Regulatory Notices and Analyses

The FAA has determined that this regulation only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order JO 7400.11G, Airspace Designations and Reporting Points, dated August 19, 2022, and effective September 15, 2022, is amended as follows:

Paragraph 5000 Class D Airspace.

* * * * *

ASO FL D Pompano Beach, FL [Amended]

Pompano Beach, Airpark, FL

(Lat. 26°14′51″ N, long. 80°06′40″ W)

That airspace extending upward from the surface to and including 2,500 feet MSL within a 4-mile radius of Pompano Beach Airpark; excluding that portion southwest of a line between lat. 26°15′48″ N; long. 80°10′59″ W; and lat. 26°13′05″ N; long. 80°08′36″ W and that portion south of a line between 26°13′05″ N; long. 80°08′36″ W and 26°13′41″ N; long. 80°02′25″ W. This Class D airspace area is effective during the specific days and times established in advance by a Notice to Air Missions. The effective days and times will thereafter be continuously published in the Chart Supplement.

ASO FL D Fort Lauderdale Executive Airport, FL [Amended]

Fort Lauderdale Executive Airport, FL

(Lat. 26°11′50″ N, long. 80°10′15″ W)

Fort Lauderdale-Hollywood International Airport, FL

(Lat. 26°04′18″ N, long. 80°08′59″ W)

That airspace extending upward from the surface to and including 2,500 feet MSL within a 4-mile radius of Fort Lauderdale Executive Airport; excluding that portion within the Fort Lauderdale-Hollywood International Airport, FL, Class C airspace area and that portion northeast of a line between lat. 26°15′48″ N; long. 80°10′59″ W; and lat. 26°13′05″ N; long. 80°08′36″ W and that portion north of a line between 26°13′05″ N; long. 80°08′36″ W and 26°13′20″ N; long. 80°06′07″ W, thence to 26°13′41″ N; long. 80°02′25″ W. This Class D airspace area is effective during the specific days and times established in advance by a Notice to Air Missions. The effective days and times will thereafter be continuously published in the Chart Supplement.

Issued in College Park, Georgia, on September 26, 2022.
Andreese C. Davis,
Manager, Airspace & Procedures Team South, Eastern Service Center, Air Traffic Organization.

[FR Doc. 2022-21387 Filed 10-7-22; 8:45 am]

BILLING CODE 4910-13-P